DELAWARE RIVER BASIN COMMISSION

Notice of Public Hearing and Business Meeting; February 4, 2026 and March 4, 2026

Notice is hereby given that the Delaware River Basin Commission will hold a public hearing on Wednesday, February 4, 2026. A business meeting will be held the following month on Wednesday, March 4, 2026. Both the hearing and the business meeting are open to the public and both will be conducted virtually.

Public Hearing. The Commission will conduct the public hearing virtually on February 4, 2026, commencing at 1:30 p.m. Hearing items will include draft dockets for withdrawals, discharges, and other projects that could have a substantial effect on the basin's water resources. A list of the projects scheduled for hearing, including project descriptions, along with links to draft docket approvals will be posted on the Commission's website, www.drbc.gov, in a long form of this notice at least ten days before the hearing date.

Written comments on matters scheduled for hearing on February 4, 2026 will be accepted through 5:00 p.m. on Monday, February 9, 2026.

The public is advised to check the Commission's website periodically during the ten days prior to the hearing date, as items scheduled for hearing may be postponed if additional time is needed to complete the Commission's review. Items also may be added up to ten days prior to the hearing date. In reviewing docket descriptions, the public is asked to be aware that the details of projects may change during the Commission's review, which is ongoing.

Business Meeting. The business meeting on March 4, 2026 will begin at 10:30 a.m. and will include: adoption of the Minutes of the Commission's December 10, 2025 business meeting; announcements of upcoming meetings and events; a report on hydrologic conditions; reports by the Executive Director and the Commission's General Counsel; and consideration of any items for which a hearing has been completed or is not required. The agenda is expected to include consideration of the draft dockets for withdrawals, discharges, and other projects that were subjects of the public hearing on February 4, 2026.

After all scheduled business has been completed and as time allows, the business meeting will be followed by up to one hour of Open Public Comment, an opportunity to address the Commission off the record on any topic concerning management of the basin's water resources outside the context of a duly noticed, on-the-record public hearing.

There will be no opportunity for additional public comment for the record at the March 4, 2026 business meeting on items for which a hearing was completed on February 4, 2026 or a previous date. Commission consideration on March 4, 2026 of items for which the public hearing is closed may result in approval of the item as proposed, approval with changes, denial, or deferral. When the Commissioners defer an action, they may announce an additional period for written comment on the item, with or without an additional hearing date, or they may take additional time to consider the input they have already received without requesting further public input. Any deferred items will be considered for action at a public meeting of the Commission on a future date.

Advance Registration and Sign-Up for Oral Comment. Links for registration to attend the virtual public hearing and business meeting will be posted at www.drbc.gov at least ten days before each meeting date. Registrants who wish to comment on the record during the public hearing on February 4, 2026 or to address the Commissioners informally during the Open Public Comment session following the meeting on March 4, 2026 as time allows, will be asked to so indicate when registering. The Commission's public hearing, business meeting, and Open Public Comment session will also be livestreamed on YouTube at https://www.youtube.com/@DRBC_1961. For assistance, please contact Ms. Kate Schmidt of the Commission staff, at kate.schmidt@drbc.gov.

Addresses for Written Comment. Written comment on items scheduled for hearing may be submitted through the Commission's web-based comment system, a link to which is provided at www.drbc.gov. Use of the web-based system ensures that all submissions are captured in a single location and their receipt is acknowledged. Exceptions to the use of this system are available based on need, by writing to the attention of the Commission Secretary, DRBC, P.O. Box 7360, 25 Cosey Road, West Trenton, NJ 08628-0360. For assistance, please contact Kate Schmidt at kate.schmidt@drbc.gov.

Accommodation for Special Needs. Closed captioning will be available on both webinar and live-stream platforms. Those with limited internet access may listen and speak at virtual public meetings of the DRBC using any of several toll-free phone numbers that will be provided to all virtual meeting registrants.

Other individuals in need of an accommodation as provided for in the Americans with Disabilities Act who wish to attend the virtual hearing or business meeting should contact the Commission Secretary directly at 609-477-7203 or through the Telecommunications Relay Services (TRS) at 711, to discuss how we can accommodate your needs.

Additional Information, Contacts. Additional public records relating to hearing items may be examined at the Commission's offices by appointment by contacting Donna Woolf, 609-477-7222. For other questions concerning hearing items, please contact David Kovach, Project Review Manager, at 609-477-7264.

Authority. Delaware River Basin Compact, Public Law 87-328, Approved December 27, 1961, 75 Statutes at Large, 688, sec. 14.4.

Dated: January 13, 2026.
Pamela M. Bush,
Commission Secretary and Assistant General Counsel.

[FR Doc. 2026-01003 Filed 1-16-26; 8:45 am]

BILLING CODE P